DEPARTMENT OF ENERGY

Federal Energy Regulatory Commission

[Docket No. CP08-54-000]

Columbia Gulf Transmission Company; Notice of Application

January 29, 2008.

Take notice that on January 15, 2008, Columbia Gulf Transmission Company (Columbia Gulf), 5151 San Felipe Suite 2500, Houston, Texas 77056, filed an abbreviated application pursuant to section 7(b) of the Natural Gas Act for permission and approval to abandon: (1) By sale to Tennessee Gas Pipeline Company (Tennessee) certain natural gas facilities, most of which are jointly owned with Tennessee, located both offshore and onshore Louisiana; (2) the services currently provided through the facilities to be sold; (3) certain transportation/exchange agreements with Tennessee; and (4) Columbia Gulf's lease to Tennessee of a portion of Columbia Gulf's South Pass 77 System capacity (South Pass Lease), all as more fully set forth in the application. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Specifically, Columbia Gulf requests authorization to abandon by sale to Tennessee of Columbia Gulf's ownership interest in: (a) The Blue Water System and all offshore laterals and appurtenant facilities contiguous thereto, and the onshore portion of the Blue Water System to Egan, Louisiana, together with the associated rights-of-way and appurtenances; (b) the South Timbalier System and all offshore laterals and appurtenant facilities contiguous thereto, together with the associated rights-of-way and appurtenances; and (c) the South Pass System and all offshore laterals and appurtenant facilities contiguous thereto, together with the associated rights-of-way and appurtenances. In addition, Columbia Gulf states that as a result of the proposed sale, Columbia Gulf requests abandonment of the interruptible transportation services provided through the facilities to be sold; abandonment of Rate Schedules X-8 and X-57 in Columbia Gulf's Volume No. 2 of its FERC Gas Tariff; and abandonment of the lease of capacity to Tennessee (South Pass Lease).

Any initial questions regarding Columbia Gulf's proposal in this application should be directed to counsel for Columbia Gulf, Fredric J. George, Lead Counsel, Columbia Gulf Transmission Company, P.O. Box 1273, Charleston, West Virginia 25325-1273; telephone: (304) 357-2359; fax: (304) 357-3206.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit the original and 14 copies of the protest or intervention to the Federal Energy Regulatory Commission, 888 First Street, NE., Washington, DC 20426.

Comment Date: February 19, 2008.

Kimberly D. Bose,
Secretary.

[FR Doc. E8-2112 Filed 2-5-08; 8:45 am]

BILLING CODE 6717-01-P